DEPARTMENT OF TRANSPORTATION

Federal Railroad Administration

[Docket Number FRA-2022-0028]

Petition for Waiver of Compliance

Under part 211 of title 49 Code of Federal Regulations (CFR), this document provides the public notice that in a letter dated September 17, 2021, the Lake County Division of Transportation (LCDOT) petitioned the Federal Railroad Administration (FRA) for a waiver of compliance from certain provisions of the Federal railroad safety regulations contained at 49 CFR 222.9, Definitions. FRA assigned the petition Docket Number FRA-2022-0028.

Specifically, LCDOT requests relief from the § 222.9 definition of “non-traversable curb,” which states that “[n]on-traversable curbs are used at locations where highway speeds do not exceed 40 miles per hour [(mph)] and are at least six inches high.” LCDOT seeks to maintain the current highway speed of 45 mph at Aptakisic Road and Midlothian Road,¹ two crossings with non-traversable curbs, instead of reducing the speed to 40 mph. In support of its petition, LCDOT references a speed study of the corridor and guidance from the American Association of State Highway and Transportation Officials.

¹ In its petition, LCDOT discusses five grade crossings within the Lake County, IL, Quiet Zone (THR-000481), but it only requests relief for Aptakisic Road and Midlothian Road. LCDOT states the 40-mph speed restriction is not applicable to the other three crossings due to the installation of Mountable Median Pylons.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by June 21, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-09604 Filed 5-4-22; 8:45 am]

BILLING CODE 4910-06-P